DEPARTMENT OF DEFENSE

Department of the Army; Corps of Engineers

Coastal Engineering Research Board

AGENCY: Department of the Army, DoD.

ACTION: Notice of open meeting.

SUMMARY: In accordance with Section 10(a)(2) of the Federal Advisory Committee Act (Pub. L. 92-463), announcement is made of the following committee meeting:

Name of Committee: Coastal Engineering Research Board (CERB).

Date of Meeting: September 10-11, 2002.

Place: The Sanderling, Duck, North Carolina.

Time: 8 a.m. to 3:45 p.m. (September 10, 2002), 8 a.m. to 4 p.m. (September 11, 2002).

FOR FURTHER INFORMATION CONTACT: Inquiries and notice of intent to attend the meeting may be addressed to Colonel John W. Morris III, Executive Secretary, U.S. Army Engineer Research and Development Center, Waterways Experiment Station, 3909 Halls Ferry Road, Vicksburg, Mississippi 39180-6199.

SUPPLEMENTARY INFORMATION:

Proposed Agenda: The theme of the meeting is “Field Data Collection.” On Tuesday, September 10, the morning session will consist of presentations dealing with the “National Shoreline Management Study,” “National Regional Sediment Management (RSM) Demonstration Program,” “Section 227 Report and Coastal Engineering Manual—Status and Maintenance,” “Coastal Louisiana Study,” and panel presentations concerning “Agency Approaches to Regional Coastal Mapping.” The afternoon session will consist of panel presentations concerning “Beach-Fill Monitoring Performance Analysis.” On the evening of September 10, a tour of the Field Research Facility is scheduled. On Wednesday, September 11, there will be panel presentations concerning “The Integrated Ocean Observing System—National Program” and “The Integrated Ocean Observing System—Corps Activities,” followed by an Executive Working Session. An optional field trip is planned for the afternoon on September 11.

These meetings are open to the public; participation by the public is scheduled for 11:15 a.m. on September 11.

The entire meeting is open to the public, but since seating capacity of the meeting room is limited, advance notice of intent to attend, although not required, is requested in order to assure adequate arrangements. Oral participation by public attendees is encouraged during the time scheduled on the agenda; written statements may be submitted prior to the meeting or up to 30 days after the meeting.

John W. Morris III,
Colonel, Corps of Engineers, Executive Secretary.

[FR Doc. 02-20649 Filed 8-13-02; 8:45 am]

BILLING CODE 3710-61-M